POSTAL SERVICE

Board of Governors; Sunshine Act Meeting

Time and Dates: 10:30 a.m., Monday, July 19, 2004; 8 a.m., Tuesday, July 20, 2004.

Place: San Francisco, California, at the Ritz-Carlton Hotel, 600 Stockton at California Street, in Salon III.

Status: July 19—10:30 a.m. (Closed); July 20—8 a.m. (Open).

Matters to be Considered:

Monday, July 19—10:30 a.m. (Closed)

1. Financial Update.

2. Preliminary Report on Goals and Performance Assessment for Fiscal Year 2005.

3. Preliminary Fiscal Year 2005 Integrated Financial Plan and Financial Outlook.

4. Implementation of Postal Rate Commission Recommendation for Electronic Return Receipt.

5. Strategic Planning.

6. Personnel Matters and Compensation Issues.

Tuesday, July 20—8 a.m. (Open)

1. Minutes of the Previous Meeting, June 15, 2004.

2. Remarks of the Postmaster General and CEO.

3. Committee Reports.

4. Capital Investments.

a. Springfield, Massachusetts, Logistics and Distribution Center.

b. Pontiac, Michigan, Northeast Metro Processing and Distribution Center.

c. Informational Briefing on Letter Mail Automation.

5. Quarterly Report on Financial Performance.

6. Report on the San Francisco District.

7. Tentative Agenda for the September 13-14, 2004, meeting in Boston, Massachusetts.

FOR FURTHER INFORMATION CONTACT: William T. Johnstone, Secretary of the Board, U.S. Postal Service, 475 L'Enfant Plaza, SW., Washington, DC 20260-1000. Telephone (202) 268-4800.

William T. Johnstone,
Secretary.

[FR Doc. 04-15844 Filed 7-8-04; 2:17 pm]

BILLING CODE 7710-12-M